DEPARTMENT OF TRANSPORTATION

Federal Aviation Administration

Fiftieth RTCA SC-206 Aeronautical Information and Meteorological Data Link Services (AIS) Plenary

AGENCY: Federal Aviation Administration (FAA), U.S. Department of Transportation (DOT).

ACTION: Fiftieth RTCA SC-206 Aeronautical Information and Meteorological Data Link Services (AIS) Plenary.

SUMMARY: The FAA is issuing this notice to advise the public of a meeting of Fiftieth RTCA SC-206 Aeronautical Information and Meteorological Data Link Services (AIS) Plenary.

DATES: The meeting will be held March 15, 2018 8:30 a.m.-12:00 p.m.

ADDRESSES: The meeting will be held at: Harris Corporation—Technology Center, 1395 Troutman Blvd NE, Palm Bay, FL 32905. Pre-registration is required by March 2nd.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Fiftieth RTCA SC-206 Aeronautical Information and Meteorological Data Link Services (AIS) Plenary. The agenda will include the following:

1. Opening Remarks: DFO, RTCA, and Chairman

2. Attendees' Introductions

3. Review and Approval of Meeting Agenda

4. Approval of Previous Meeting Minutes (Herndon, VA)

5. Sub-Groups Reports

A. SG1: CSC JC and Other SC Coordination (ISRAS)

B. SG5: FIS-B MOPS

6. Decision on TOR Changes/Rejoining WG-76

7. Future Meetings Plans and Dates

8. Industry Coordination

A. Horizon 2020—Honeywell

9. Action Item Review

10. Other Business

11. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 7, 2018.
Mohannad Dawoud,
Management & Program Analyst, Partnership Contracts Branch, ANG-A17, NextGen, Procurement Services Division, Federal Aviation Administration.

[FR Doc. 2018-02834 Filed 2-12-18; 8:45 am]

BILLING CODE 4910-13-P